ENVIRONMENTAL PROTECTION AGENCY

[FRL-10658-01-R1]

Notice of Availability of Draft NPDES Potable Water Treatment Facility General Permit

AGENCY: Environmental Protection Agency (EPA).

ACTION: Notice of availability of draft NPDES general permits MAG640000 and NHG640000.

SUMMARY: The Director of the Water Division, U.S. Environmental Protection Agency—Region 1 (EPA), is providing a Notice of Availability for the Draft National Pollutant Discharge Elimination System (NPDES) Potable Water Treatment Facility General Permit (Draft PWTF GP) for discharges to certain waters of the Commonwealth of Massachusetts and the State of New Hampshire. This Draft PWTF GP establishes effluent limitations and requirements, effluent and ambient monitoring requirements, reporting requirements, and standard conditions for existing potable water treatment facilities that discharge wastewater associated with common water treatment processes (e.g., clarification, granular media filtration, microfiltration, etc.). The Draft PWTF GP is available on EPA Region 1's website at https://www.epa.gov/npdes-permits/potable-water-treatment-facility-general-permit-pwtf-gp-massachusetts-new-hampshire. The Fact Sheet for the Draft PWTF GP sets forth principal facts and the significant factual, legal, methodological, and policy questions considered in the development of the Draft Permit and is also available at this website.

DATES: The public comment period will be open until April 24, 2023. See EPA's web page for the applicable dates, https://www.epa.gov/npdes-permits/potable-water-treatment-facility-general-permit-pwtf-gp-massachusetts-new-hampshire.

ADDRESSES: Written comments on the Draft PWTF GP may be sent via email to: Chien.Nathan@epa.gov. If requesting to submit comments in hard copy form, please reach out to the EPA contact above.

FOR FURTHER INFORMATION CONTACT: The administrative record and additional information concerning the Draft PWTF GP may be obtained from Nathan Chien via telephone: 617-918-1649 or email Chien.Nathan@epa.gov.

SUPPLEMENTARY INFORMATION:

Public Comment Information: Interested persons may submit written comments on the Draft PWTF GP to EPA Region 1 at the address listed above. In reaching a final decision on this Draft Permit, the Regional Administrator will respond to all significant comments and make responses available to the public on EPA Region 1's website. All comments must be postmarked or delivered by the close of the public comment period.

General Information: The Draft PWTF GP includes effluent limitations and requirements for eligible facilities based on technology and/or water quality considerations of the unique discharges from these facilities. The effluent limits established in the Draft PWTF GP ensure that the surface water quality standards of the receiving water(s) will be attained and/or maintained.

Obtaining Authorization: To obtain coverage under the General Permit, facilities meeting the eligibility requirements outlined in part I of this General Permit may submit a notice of intent (NOI) in accordance with part II of this General Permit and 40 CFR 122.28(b)(2)(i) & (ii). The contents of the NOI shall include at a minimum, the legal name and address of the owner or operator, the facility name and address, type of facility or discharges, the receiving stream(s) and be signed by the operator in accordance with the signatory requirements of 40 CFR 122.22. Alternately, based on 40 CFR 122.28(b)(2)(vi), the Director may notify a discharger that it is covered by a general permit, even if the discharger has not submitted an NOI to be covered. EPA has determined that the facilities identified in appendix K of the Draft PWTF GP all meet the eligibility requirements for coverage under the Draft General Permit and may be authorized to discharge under the General Permit by this type of notification.

Other Legal Requirements: Endangered Species Act (ESA): In accordance with the ESA, EPA has updated the provisions and necessary actions and documentation related to potential impacts to endangered species from PWTFs eligible for coverage under the Draft PWTF GP. Concurrently with the public notice of the Draft PWTF GP, EPA plans to initiate an informal consultation with the National Oceanic and Atmospheric Administration, National Marine Fisheries Service (NOAA Fisheries) under ESA section 7, through the submission of a letter and biological assessment (BA) summarizing the results of EPA's assessment of the potential effects to endangered and threatened species and their critical habitats under NOAA Fisheries jurisdiction as a result of EPA's issuance of the Draft PWTF GP. In this document, EPA has made a preliminary determination that the proposed issuance of the Draft PWTF GP is not likely to adversely affect the shortnose sturgeon, Atlantic sturgeon, leatherback sea turtles, loggerhead sea turtles, Kemp's ridley sea turtles, green sea turtles, North Atlantic right whales, and fin whales. EPA plans to request that NOAA Fisheries review this submittal and inform EPA whether it concurs with this preliminary finding.

In addition, EPA has initiated an informal consultation with the U.S. Fish and Wildlife Service (USFWS) under ESA section 7, through the submission of a letter summarizing the results of EPA's assessment of the potential effects to endangered and threatened species and their critical habitats under USFWS jurisdiction as a result of EPA's issuance of the Draft PWTF GP. In this document, EPA has made a preliminary determination that the proposed issuance of the Draft PWTF GP is not likely to adversely affect the northern long-eared bat. EPA has completed an informal consultation with USFWS regarding the threatened northern long-eared bat, as activities conducted as part of the PWTF GP are consistent with activities analyzed in the USFWS January 5, 2016, Programmatic Biological Opinion (PBO).

Essential Fish Habitat (EFH): Under the 1996 Amendments (Pub. L. 104-267) to the Magnuson-Stevens Fishery Conservation and Management Act (16 U.S.C. 1801 et seq. (1998)), EPA is required to consult with NOAA Fisheries if EPA's actions or proposed actions that it funds, permits or undertakes “may adversely impact any essential fish habitat.” 16 U.S.C. 1855(b). In the Fact Sheet accompanying the Draft PWTF GP, EPA notes that the general permit action minimizes adverse effects to aquatic organisms, including those with designated EFH in the receiving waters. EFH species associated with the receiving waters of facilities covered by the Draft PWTF GP may include Atlantic salmon as well as the life stages of a number of coastal EFH designated species, along with two habitat areas of particular concern. EPA has made the determination that additional mitigation is not warranted under section 305(b)(2) of the Magnuson-Stevens Act and has provided this determination to NOAA Fisheries for their review.

National Historic Preservation Act (NHPA): Facilities which adversely affect properties listed or eligible for listing in the National Registry of Historic Places under the NHPA are not authorized to discharge under the Draft PWTF GP. EPA is requesting that facilities certify, prior to obtaining coverage, that there are either no historic properties present or that their discharge and related activities do not have the potential to impact historic properties.

Coastal Zone Management Act (CZMA): The CZMA, 16 U.S.C. 1451 et seq., and its implementing regulations (15 CFR part 930) require a determination that any federally licensed activity affecting the coastal zone with an approved Coastal Zone Management Program (CZMP) is consistent with the CZMA.

Concurrent with the public notice EPA will request that the Executive Office of Environmental Affairs, MA CZM, Project Review Coordinator provide a consistency concurrence that the proposed Draft PWTF GP is consistent with the MA CZMP.

There are no eligible facilities that discharge to New Hampshire's coastal zone. Therefore, additional CZMA federal consistency review by the New Hampshire Coastal Program is not required.

Authority: This action is being taken under the Clean Water Act, 33 U.S.C. 1251 et seq.

David Cash,
Regional Administrator, EPA Region 1.

[FR Doc. 2023-03033 Filed 2-17-23; 8:45 am]

BILLING CODE 6560-50-P